DEPARTMENT OF COMMERCE

Foreign-Trade Zones Board

[B-061-2017]

Foreign-Trade Zone (FTZ) 272—Lehigh Valley, Pennsylvania: Notification of Proposed Production Activity; Fuling Plastic USA, Inc. (Disposable Plastic and Paper Service Ware and Kitchenware Products); Allentown, Pennsylvania

Fuling Plastic USA, Inc. (Fuling Plastic) submitted a notification of proposed production activity to the FTZ Board for its facility in Allentown, Pennsylvania within Subzone 272C. The notification conforming to the requirements of the regulations of the FTZ Board (15 CFR 400.22) was received on September 27, 2017.

The Fuling Plastic facility is used for the receipt, quality control, warehousing, manipulation, testing, and production of disposable plastic and paper service ware and kitchenware products. Pursuant to 15 CFR 400.14(b), FTZ activity would be limited to the specific foreign-status materials and components and specific finished products described in the submitted notification (as described below) and subsequently authorized by the FTZ Board.

Production under FTZ procedures could exempt Fuling Plastic from customs duty payments on the foreign-status components used in export production. On its domestic sales, for the foreign-status materials/components noted below, Fuling Plastic would be able to choose the duty rates during customs entry procedures that apply to: Plastic Drinking Straws; Plastic Plates; Disposable Plastic Cups; Disposable Plastic Plates and Serving Dishes; Plastic Food Containers; and, Plastic Stoppers, Lids, Caps (duty rate ranges from 3.1% to 5.3%). Fuling Plastic would be able to avoid duty on foreign-status components which become scrap/waste. Customs duties also could possibly be deferred or reduced on foreign-status production equipment.

The components and materials sourced from abroad include: Polypropylene Resin; Polypropylene Resin (Modified Granulation with Color); Plastic Film; Plastic Bags; Paper Wrap; and, Paper Cartons, Boxes, and Cases (duty rate ranges from duty-free to 6.5%).

Public comment is invited from interested parties. Submissions shall be addressed to the Board's Executive Secretary at the address below. The closing period for their receipt is November 13, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Juanita Chen at juanita.chen@trade.gov or (202) 482-1378.

Dated: September 28, 2017.
Andrew McGilvray,
Executive Secretary.

[FR Doc. 2017-21338 Filed 10-3-17; 8:45 am]

BILLING CODE 3510-DS-P